DEPARTMENT OF COMMERCE

International Trade Administration

[A-549-821]

Notice of Extension of Deadline for the Preliminary Results of Antidumping Duty Administrative Review: Polyethylene Retail Carrier Bags from Thailand

AGENCY: Import Administration, International Trade Administration, Department of Commerce.

EFFECTIVE DATE: April 26, 2006.

FOR FURTHER INFORMATION CONTACT: Lyn Johnson or Richard Rimlinger, AD/CVD Operations, Office 5, Import Administration, International Trade Administration, U.S. Department of Commerce, 14th Street and Constitution Avenue, NW, Washington, DC 20230; telephone: (202) 482-5287 and (202) 482-4477, respectively.

Extension of Deadline

At the request of various parties, the Department of Commerce (the Department) initiated an administrative review of the antidumping duty order on polyethylene retail carrier bags from Thailand for the period January 26, 2004, through July 31, 2005. See Initiation of Antidumping and Countervailing Duty Administrative Reviews and Request for Revocation in Part, 70 FR 56631 (September 28, 2005). Section 751(a)(3)(A) of the Tariff Act of 1930, as amended (the Act), requires the Department to issue preliminary results of review within 245 days after the last day of the anniversary month of an order for which a review is requested and final results within 120 days after the date on which the preliminary results were published. If it is not practicable to complete the review within these time periods, section 751(a)(3)(A) of the Act allows the Department to extend the time limit for the preliminary results to a maximum of 365 days after the last day of the anniversary month.

This review involves seven respondents. We received below-cost allegations after receipt of questionnaire responses and are currently conducting below-cost investigations for several of these respondents. Further, we have granted requests for extensions to the deadline for responding to our initial and supplemental questionnaires by all seven of the respondents. Due to the number of respondents in this review and the time we need to analyze and incorporate the information from recently filed submissions, we are extending the deadline for issuing the preliminary results of this review by 90 days until August 1, 2006.

This notice is published in accordance with sections 751(a)(3)(A) and 777(i) of the Act.

Dated: April 18, 2006.
Stephen J. Claeys,
Deputy Assistant Secretary, for Import Administration.

[FR Doc. E6-6283 Filed 4-26-06; 8:45 am]

BILLING CODE 3510-DS-S